DEPARTMENT OF TRANSPORTATION

Federal Aviation Administration

Agency Information Collection Activities: Requests for Comments; Clearance of Renewed Approval of Information Collection: Flightcrew Member Duty and Rest Requirements

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on December 22, 2014 (79 FR 76435). Reporting and recordkeeping are required any time a certificated air carrier has exceeded a maximum daily flight time limit or a maximum daily Flight Duty Period (FDP) limit. It is also required for the voluntary development of a Fatigue Risk Management System (FRMS), and for fatigue training.

DATES: Written comments should be submitted by May 1, 2015.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Ronda Thompson at (202) 267-1416, or by email at: Ronda.Thompson@faa.gov.

SUPPLEMENTARY INFORMATION: OMB Control Number: 2120-0751.

Title: Flightcrew Member Duty and Rest Requirements.

Form Numbers: There are no FAA forms associated with this collection.

Type of Review: Extension without change of an information collection.

Background: The FAA collects reports from air carriers certificated under 14 CFR part 121 as prescribed in 14 CFR part 117, 117.11 and 117.19 of the Flightcrew Member Duty and Rest Requirements, to notify the FAA that the certificate holder has extended a flight time and/or FDP limitation. Additionally, if air carriers choose to develop a Fatigue Risk Management System (FRMS) they are required to collect data specific to the need of the operation for which they will seek an FRMS authorization. Each air carrier is required to develop specific elements and incorporate these elements into their training program and submit the revised training program for approval.

Respondents: 67 certificated air carriers.

Frequency: Information is collected on occasion.

Estimated Average Burden per Response: 20 hours.

Estimated Total Annual Burden: 3,178 hours.

Issued in Washington, DC, on March 27, 2015.
Albert R. Spence,
FAA Assistant Information Collection Clearance Officer, IT Enterprises Business Services Division, ASP-110.

[FR Doc. 2015-07513 Filed 3-31-15; 8:45 am]

BILLING CODE 4910-13-P